DEPARTMENT OF THE INTERIOR

Bureau of Land Management

[LLMTC02200-L14300000-EQ0000; MTM-74913]

Notice of Realty Action; Proposed Amendment to Noncompetitive Land Use Lease; Montana

AGENCY: Bureau of Land Management, Interior.

ACTION: Notice of Realty Action and request for public comment.

SUMMARY: On March 6, 2009, the Bureau of Land Management (BLM) received a proposal from Spring Creek Coal Company to amend their existing land use lease, MTM-74913. The BLM is hereby notifying any interested parties of the proposal to amend land use lease MTM-74913 and is accepting comments on the proposed land use lease amendment.

DATES: Interested parties may submit comments on or before September 28, 2009.

ADDRESSES: Written comments should be sent to the Field Manager, Miles City Field Office, Bureau of Land Management, 111 Garryowen Road, Miles City, Montana 59301. Comments received in electronic form, such as e-mail or facsimile, will not be considered.

FOR FURTHER INFORMATION CONTACT: Information regarding the proposed land use lease amendment and proposed land use may be reviewed at the BLM Miles City Field Office address listed in ADDRESSES above during regular business hours, 7:45 a.m. to 4:30 p.m., Monday through Friday, except Federal holidays. For this and additional information contact Pam Wall, BLM Miles City Field Office, Miles City, Montana 59301, telephone 406-233-2846.

SUPPLEMENTARY INFORMATION: The following described land, associated with the proposed amendment, has been examined and identified as suitable for leasing under section 302 of the Federal Land Policy and Management Act (43 U.S.C. 1732) at not less than fair market value:

Principal Meridian, Montana

T. 8 S., R. 39 E.,

Sec. 35, NE¼NE¼, SE¼NE¼, E½NW¼NE¼, E½W½NW¼NE¼, NW¼NW¼NW¼NE¼, NE¼SW¼NE¼, NE¼SE¼SW¼NE¼, E½NE¼SE¼, E½NW¼NE¼SE¼, and NE¼SE¼SE¼.

T. 9 S., R. 40 E.,

Sec. 6, lot 5.

The area described contains 197.12 acres, more or less, in Big Horn County.

The BLM is hereby notifying any interested parties of the proposal to amend land use lease MTM-74913 and is accepting comments on the proposed land use lease amendment.

Spring Creek Coal Company's existing land use lease MTM-74913, which was issued under the authority of section 302 of the Federal Land Policy and Management Act (43 U.S.C. 1732), may be amended to authorize the surface use of 197.12 acres of public land for coal mine layback, a flood control structure, topsoil and overburden stockpiles, and transportation and utility line corridors in order to facilitate the full recovery of coal reserves from their adjoining Federal Coal Lease MTM-94378, Montana State Coal Lease C-1088-05, and for Spring Creek's pending Coal Lease Modification MTM-069782. The layback is a critical component in coal strip mine recovery which consists of a series of benches cut into the mine highwall to stabilize the wall as mining progresses into an area. The lands adjacent to a coal lease need to be disturbed during normal mining operations to completely and safely remove the coal within the lease boundary. The flood control structure consists of a reservoir sized at approximately 159 acre feet, to contain a 100-year, 24-hour flood event associated with the Pearson Creek drainage. This reservoir is needed to prevent saturation and potential failure of the highwall and/or flooding into the pit which would not only slow or stop coal production but expose mine personnel to a health and safety hazard. The topsoil stripped from the coal leases would be stockpiled on the subject lands to be used in reclamation after mining. The overburden removed from the pit would also be stockpiled on the subject lands to be used in post-mining topography construction. An electric line and distribution station would be located within the use area to keep it safely away from the pit and grading activity and buffered by the access/haul roads which will be used in the mining process and to service the stockpiles.

The proposed land use lease amendment consists of 160 acres in the E½ of section 35, T. 8 S., R. 39 E., and 37.12 acres in lot 5 of section 6, T. 9 S., R. 40 E. The total disturbed area in section 35 is estimated to be 108.90 acres with the remaining 51.10 acres receiving a 10 percent usage. The total disturbed area in section 6 is estimated to be 21.20 acres with the remaining 15.92 acres receiving a 10 percent usage.

The subject land could be offered noncompetitively to Spring Creek Coal Company as an amendment to their existing Land Use Lease MTM-74913 for stockpiling of topsoil and overburden, construction of a haul road, and for drainage control, for their current coal mining operation. The proposed land use lease amendment, which would be authorized under the authority of section 302 of the Federal Land Policy and Management Act (43 U.S.C. 1732) and pursuant to regulations found at 43 CFR 2920, would provide authorized surface use only of the public land and would be subject to the terms and conditions of the existing lease. No mineral use would be authorized under this land use lease amendment, however Spring Creek Coal Company has applied for a modification of coal lease MTM-069782 which is being processed concurrently (under regulations found at 43 CFR 3432) with the land use lease amendment.

The application will be accepted for this land use lease amendment at the address listed above at the end of the 45 day comment period for this notice. The application will be subject to reimbursement of costs in accordance with the provisions of 43 CFR 2920.6. The land would be leased at fair market value as determined by appraisal and as provided for at 43 CFR 2920.8. The application must include a reference to this notice and a complete description of the proposed project. An environmental analysis will be completed addressing this proposed land use lease amendment, along with the proposed coal lease modification, after publication of this notice and comment period. A National Environmental Policy Act analysis will be completed prior to any decision by the BLM to approve the proposed application for a land use lease amendment and coal lease modification.

Public Comment Procedures: Please submit your comments on issues related to the proposed action, in writing, according to the ADDRESSES section above. Comments on the proposed action should be specific, should be confined to issues pertinent to the proposed action, and should explain the reason for any recommended change. Where possible, your comments should reference the specific section or paragraph of the proposal that you are addressing. The BLM may not necessarily consider or include in the Administrative Record comments that the BLM receives after the close of the comment period (see DATES) or comments delivered to an address other than those listed above (see ADDRESSES).

Comments, including names and street addresses of respondents, will be available for public review at the BLM Miles City Field Office address listed in ADDRESSES above during regular business hours, 7:45 a.m. to 4:30 p.m., Monday through Friday, except Federal holidays. Before including your address, phone number, e-mail address, or other personal identifying information in your comments, be advised that your entire comment—including your personal identifying information—may be made publicly available at any time. While you can ask us in your comment to withhold your personal identifying information from public review, we cannot guarantee that we will be able to do so.

Any adverse comments will be evaluated by the BLM Montana State Director, who may sustain, vacate or modify this realty action. In the absence of timely filed objections, this realty action will become the final determination of the Department of the Interior.

Authority: 43 CFR 2920.4(c).

M. Elaine Raper,
Field Office Manager.

[FR Doc. E9-19415 Filed 8-12-09; 8:45 am]

BILLING CODE 4310-DN-P